DEPARTMENT OF THE INTERIOR

Bureau of Land Management

[[LLWO320000 L13300000.PO0000]

Renewal of Approved Information Collection

AGENCY: Bureau of Land Management, Interior.

ACTION: 30-day Notice and Request for Comments.

SUMMARY: The Bureau of Land Management (BLM) has submitted an information collection request to the Office of Management and Budget (OMB) for a 3-year renewal of OMB Control Number 1004-0103 under the Paperwork Reduction Act. This control number covers paperwork requirements pertaining to the purchase of mineral materials from public lands.

DATES: The OMB is required to respond to this information collection request within 60 days but may respond after 30 days. Therefore, written comments should be received on or before August 22, 2011.

ADDRESSES: Please submit comments directly to the Desk Officer for the Department of the Interior (OMB #1004-0103), Office of Management and Budget, Office of Information and Regulatory Affairs, fax 202-395-5806, or by electronic mail at oira_docket@omb.eop.gov. Please provide a copy of your comments to the BLM. You may do so via mail, fax, or electronic mail.

Mail: U.S. Department of the Interior, Bureau of Land Management, 1849 C Street, NW., Room 2134LM, Attention: Jean Sonneman, Washington, DC 20240.

Fax: Jean Sonneman at fax number 202-912-7181.

Electronic mail: jean_sonneman@blm.gov.

FOR FURTHER INFORMATION CONTACT: George Brown, Division of Solid Minerals, at 202-912-7118. Persons who use a telecommunication device for the deaf (TDD) may call the Federal Information Relay Service (FIRS) at 1-800-877-8339, to leave a message for Mr. Brown. You may also review the information collection request online at http://www.reginfo.gov/public/do/PRAMain.

SUPPLEMENTARY INFORMATION:

The Paperwork Reduction Act (44 U.S.C. 3501-3521) and OMB regulations at 5 CFR part 1320 provide that an agency may not conduct or sponsor a collection of information unless it displays a currently valid OMB control number. Until OMB approves a collection of information, you are not obligated to respond. 44 U.S.C. 3506 and 3507. In order to obtain and renew an OMB control number, Federal agencies are required to seek public comment on information collection and recordkeeping activities (see 5 CFR 1320.8(d) and 1320.12(a)). For this control number, the BLM requests comments on the following subjects:

1. Whether the collection of information is necessary for the proper functioning of the BLM, including whether the information will have practical utility;

2. The accuracy of the BLM's estimate of the burden of collecting the information, including the validity of the methodology and assumptions used;

3. The quality, utility and clarity of the information to be collected; and

4. How to minimize the information collection burden on those who are to respond, including the use of appropriate automated, electronic, mechanical, or other forms of information technology.

Please submit comments as directed under ADDRESSES and DATES. Please refer to OMB control number 1004-0103 in your correspondence. Before including your address, phone number, e-mail address, or other personal identifying information in your comment, you should be aware that your entire comment—including your personal identifying information—may be made publicly available at any time. While you can ask us in your comment to withhold your personal identifying information from public review, we cannot guarantee that we will be able to do so.

The following information is provided for the information collection:

Title: Sale of Mineral Materials (43 CFR Part 3600).

Form: Form 3600-9, Contract for the Sale of Mineral Materials.

OMB Control Number: 1004-0103.

Abstract: The Mineral Materials Act, 30 U.S.C. 601 and 602, authorizes disposals of mineral materials (such as sand, gravel, and petrified wood) from public lands. This information collection request pertains to mineral sales contracts in accordance with regulations at 43 CFR part 3600. Form 3600-9 (Contract for the Sale of Mineral Materials) is the only form currently approved by OMB under control number 1004-0103, and the only form for which the BLM has requested approval in this information collection request. In the 60-day notice for this information collection request, the BLM proposed to change the title of Form 3600-9, but the BLM has decided that the title should remain “Contract for the Sale of Mineral Materials.”

Frequency of Collection: The BLM collects the information on occasion. Responses are required in order to obtain or retain a benefit.

Estimated Number and Description of Respondents: Each year, an estimated 440 businesses submit applications to purchase or use mineral materials from public lands.

Estimated Reporting and Recordkeeping “Hour” Burden: 2,540 responses and 11,635 hours annually. The following table details the individual components and respective hour burdens of this information collection request:

A. Type of response | B. Number of responses | C. Time per response | D. Total hours (B × C)
Pre-Application Sampling and Testing, 43 CFR 3601.30 | 30 | 30 minutes | 15
Request for Sale Not Within a Community Pit or Common Use Area, 43 CFR 3602.11 | 94 | 30 minutes | 47
Request for Sale Within a Community Pit or Common Use Area, 43 CFR 3602.11 | 346 | 30 minutes | 173
Mining and Reclamation Plans (Simple), 43 CFR 3601.40 | 200 | 2 hours | 400
Mining and Reclamation Plans (Complex), 43 CFR 3601.40 | 110 | 24 hours | 2,640
Contract for the Sale of Mineral Materials, 43 CFR subpart 3602, Form 3600-9 | 440 | 30 minutes | 220
Performance Bond, 43 CFR 3602.14 | 440 | 30 minutes | 220
Payments, 43 CFR 3602.21 and 3602.29 | 440 | 12 hours | 5,280
Records Maintenance, 43 CFR 3602.28 | 440 | 6 hours | 2,640
Totals | 2,540 |  | 11,635

Estimated Annual Reporting and Recordkeeping “Non-Hour Cost” Burden: $104,340.

60-Day Notice: As required at 5 CFR 1320.8(d), the BLM published a 60-day notice in the Federal Register on March 28, 2011 (76 FR 17149), soliciting comments from the public and other interested parties. The comment period closed on May 27, 2011. The BLM received one comment. The comment was a general invective about the Federal government, the Department of the Interior, and the BLM. It did not address, and was not germane to, this information collection. Therefore, the BLM has not changed the information collection in response to the comment.

Jean Sonneman,
Bureau of Land Management, Information Collection Clearance Officer.

[FR Doc. 2011-18514 Filed 7-21-11; 8:45 am]

BILLING CODE 4310-84-P